DEPARTMENT OF AGRICULTURE

Animal and Plant Health Inspection Service

[Docket No. APHIS-2019-0002]

Notice of Availability of a Supplemental Environmental Assessment for Release of Aphalara itadori From Murakami, Japan for the Biological Control of Japanese, Giant, and Bohemian Knotweeds in the Contiguous United States

AGENCY: Animal and Plant Health Inspection Service, USDA.

ACTION: Notice of availability and request for comments.

SUMMARY: We are advising the public that the Animal and Plant Health Inspection Service has prepared a supplemental environmental assessment (EA) relative to a 2020 EA for the release of Aphalara itadori for the biological control of Japanese, Giant, and Bohemian knotweeds (Fallopia japonica, F. sachalinensis, and F. x bohemica), significant invasive weeds, within the contiguous United States. This supplement analyzes the potential impacts of the release of A. itadori from Murakami, Japan, that may be more effective than the present Hokkaido and Kyushu lines of A. itadori in reducing infestations of knotweeds, particularly hybrid knotweed, which is the most abundant type of knotweed in the United States. We are making the supplemental EA available to the public for review and comment.

DATES: We will consider all comments that we receive on or before March 13, 2023.

ADDRESSES: You may submit comments by either of the following methods:

• FederaleRulemaking Portal: Go to www.regulations.gov. Enter APHIS-2019-0002 in the Search field. Select the Documents tab, then select the Comment button in the list of documents.

• Postal Mail/Commercial Delivery: Send your comment to Docket No. APHIS-2019-0002, Regulatory Analysis and Development, PPD, APHIS, Station 3A-03.8, 4700 River Road Unit 118, Riverdale, MD 20737-1238.

The supplemental environmental assessment and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Robert S. Pfannenstiel, Acting Assistant Director, Pests, Pathogens and Biocontrol Permitting, Plant Health Programs, PPQ, APHIS, 4700 River Road Unit 133, Riverdale, MD 20737-1231; (301) 851-2198; email: bob.pfannenstiel@usda.gov.

SUPPLEMENTARY INFORMATION: Invasive knotweeds in North America are a complex of three closely related species in the family Polygonaceae that were introduced from Japan during the late 19th century. They include Fallopia japonica (Japanese knotweed), F. sachalinensis (Giant knotweed), and the hybrid between the two, F. x bohemica (Bohemian knotweed). These large herbaceous perennials have spread throughout much of North America, with the greatest infestations in the Pacific Northwest, the northeast of the United States, and eastern Canada. While capable of growing in diverse habitats, the knotweeds have become especially problematic along the banks and floodplains of rivers and streams, where they crowd out native plants and potentially affect stream nutrients and food webs. While several States have active control programs against knotweeds, the inaccessibility of some of the infestations and the difficulty with which the plants are killed suggest that complete eradication of knotweeds within the United States is unlikely.

Previously, the Hokkaido and Kyushu biotypes of the insect, Aphalara itadori, were chosen as potential biological control organisms. The biotypes were expected to reduce the severity of infestations of Japanese, Giant, and Bohemian knotweed, and they are known to be highly host specific due to their intimate relationship with their host plants.

On May 28, 2019, the Animal and Plant Health Inspection Service (APHIS) published in the Federal Register (84 FR 24463-24464, Docket No. APHIS-2019-0002) ¹ a notice in which we announced the availability, for public review and comment, of an environmental assessment (EA) that examined the potential environmental impacts associated with the release of A. itadori from Kyushu and Hokkaido, Japan, for the biological control of Japanese, Giant, and Bohemian knotweed within the contiguous United States. After soliciting and reviewing comments on the EA, we prepared a finding of no significant impact (FONSI). On November 30, 2020, we published in the Federal Register (85 FR 76515-76516, Docket No. APHIS-2019-0002) a notice in which we announced the availability of the final EA and FONSI.

¹ To view the notice, supporting documents, and the comments we received, go to https://www.regulations.gov. Enter APHIS-2019-0002 in the Search field.

In June 2021, APHIS received a request to issue permits for the environmental release of A. itadori sourced from Murakami, Japan, into the contiguous United States. Environmental release of the Murakami line of A. itadori may be more effective than the Hokkaido and Kyushu lines. It is native to a climate and photoperiod better matched to the primary target knotweed regions of the United States. It is recently collected and thus field-adapted (not lab-adapted as are currently permitted lines). It also performs particularly well on hybrid knotweed (F. x bohemica), the most abundant knotweed type in the United States.

Before permits are issued for the release of A. itadori from Murakami, Japan, APHIS needs to analyze the potential impacts of the release of A. itadori from Murakami, Japan. Accordingly, APHIS has prepared a supplemental EA titled “Field Release of the Knotweed Psyllid Aphalara itadori (Hemiptera: Psyllidae) from Murakami, Japan for Classical Biological Control of Japanese, Giant, and Bohemian Knotweeds, Fallopia japonica, F. sachalinensis, and F. x bohemica (Polygonaceae), in the Contiguous United States, Supplemental Environmental Assessment” (November 2022).

We are making the supplemental EA available to the public for review and comment. We will consider all comments that we receive on or before the date listed under the heading DATES at the beginning of this notice.

The supplemental EA may be viewed on the Regulations.gov website or in our reading room (see ADDRESSES above for instructions accessing Regulations.gov and information on the location and hours of the reading room). In addition, paper copies may be obtained by calling or writing to the individual listed under FOR FURTHER INFORMATION CONTACT.

The supplemental EA has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) Animal and Plant Health Inspection Service's NEPA Implementing Procedures (7 CFR part 372).

Done in Washington, DC, this 6th day of February 2023.
Anthony Shea,
Administrator, Animal and Plant Health Inspection Service.

[FR Doc. 2023-02812 Filed 2-9-23; 8:45 am]

BILLING CODE 3410-34-P